DEPARTMENT OF JUSTICE

Notice of Lodging of Proposed Consent Decree Under the Clean Water Act

On October 26, 2015, the Department of Justice lodged a proposed Consent Decree with the United States District Court for the Northern District of Iowa in the lawsuit entitled United States and State of Iowa v. City of Waterloo, Civil Action No. 6:15-cv-02087-LRR, Dkt. #3.

The United States, on behalf the United States Environmental Protection Agency (“EPA”), and the State of Iowa filed a complaint against the City of Waterloo seeking injunctive relief and the imposition of civil penalties for illegal discharges of pollutants, including untreated sewage, from the City's sanitary sewer system, and for violations of the conditions established in the City's National Pollutant Discharge Elimination System (“NPDES”) permit for the sewer system. The consent decree requires the City to conduct assessments of its sewer system and develop a plan of remedial measures to prevent future violations, and to pay $272,000 in settlement, split between the United States and the State of Iowa.

The publication of this notice opens a period for public comment on the Consent Decree. Comments should be addressed to the Assistant Attorney General, Environment and Natural Resources Division, and should refer to United States and State of Iowa v. City of Waterloo, D.J. Ref. No. 90-5-1-1-10719. All comments must be submitted no later than thirty (30) days after the publication date of this notice. Comments may be submitted either by email or by mail:

To submit comments: | Send them to:
By e-mail | pubcomment-ees.enrd@usdoj.gov
By mail | Assistant Attorney General U.S. DOJ—ENRD P.O. Box 7611 Washington, DC 20044-7611

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $31.50 (25 cents per page reproduction cost) payable to the United States Treasury. For a paper copy without the exhibits and signature pages, the cost is $11.25.

Susan M. Akers,
Assistant Section Chief, Environmental Enforcement Section, Environment and Natural Resources Division.

[FR Doc. 2015-27938 Filed 11-2-15; 8:45 am]

BILLING CODE 4410-15-P